DEPARTMENT OF TRANSPORTATION

Federal Aviation Administration

Notice of Availability for the Written Re-Evaluation of the Final Programmatic Environmental Assessment for the SpaceX Starship/Super Heavy Launch Vehicle Program at the SpaceX Boca Chica Launch Site in Cameron County, Texas Regarding Deluge System Operation, Addition of a Forward Heat Shield Interstage, and Expansion of the Area of Potential Effects for Cultural Resources

AGENCY: Federal Aviation Administration (FAA), Department of Transportation (DOT).

ACTION: Notice of availability.

SUMMARY: In accordance with the National Environmental Policy Act of 1969, as amended, Council on Environmental Quality NEPA-implementing regulations, and FAA Order 1050.1F, Environmental Impacts: Policies and Procedures, the FAA is announcing the availability of the Written Re-Evaluation for the Final Programmatic Environmental Assessment for the SpaceX Starship/Super Heavy Launch Vehicle Program regarding operation of a deluge system, addition of a forward heat shield interstage to the vehicle, and expansion of the Area of Potential Effects for cultural resources at the SpaceX Boca Chica Launch Site in Cameron County, Texas.

FOR FURTHER INFORMATION CONTACT: Amy Hanson, FAA Environmental Specialist, Federal Aviation Administration, 800 Independence Ave. SW, Suite 325, Washington, DC 20591; phone 847-243-7609; email Amy.Hanson@faa.gov.

SUPPLEMENTARY INFORMATION: The Written Re-Evaluation evaluated whether supplemental environmental analysis was needed to support the FAA Office of Commercial Space Transportation decision to issue a modification to the vehicle operator license to SpaceX for the operation of the Starship/Super Heavy launch vehicle at its existing Boca Chica Launch Site in Cameron County, Texas. The affected environment and environmental impacts of Starship/Super Heavy operations and the construction of launch-related infrastructure at the Boca Chica Launch Site were analyzed in the 2022 Final Programmatic Environmental Assessment for the SpaceX Starship/Super Heavy Launch Vehicle Program at the SpaceX Boca Chica Launch Site in Cameron County, Texas (2022 PEA). The FAA issued a Mitigated Finding of No Significant Impact and Record of Decision based on the 2022 PEA on June 13, 2022.

SpaceX recently provided the FAA with additional information regarding operation of the deluge system, addition of a forward heat shield interstage to the vehicle, and expansion of the Area of Potential Effects for cultural resources.

Based on the analysis within the Written Re-Evaluation of the additional information, the FAA concluded that the issuance of a modification to the vehicle operator license for Starship/Super Heavy operations conforms to the prior environmental documentation, that the data contained in the 2022 PEA remains substantially valid, that there are no significant environmental changes, and all pertinent conditions and requirements of the prior approval have been met or will be met in the current action.

Therefore, preparation of a supplemental or new environmental document is not necessary to support the Proposed Action.

The Written Re-Evaluation is available at: www.faa.gov/space/stakeholder_engagement/spacex_starship.

Issued in Washington, DC on: November 16, 2023.
Stacey Molinich Zee,
Manager, Operations Support Branch, Office of Commercial Space Transportation.

[FR Doc. 2023-25722 Filed 11-20-23; 8:45 am]

BILLING CODE 4910-13-P